DEPARTMENT OF HEALTH AND HUMAN SERVICES

Health Resources and Services Administration

Statement of Organization, Functions and Delegations of Authority; Correction

AGENCY: Health Resources and Services Administration (HRSA), HHS.

ACTION: Notice; correction.

SUMMARY: HRSA published a document in the Federal Register of January 7, 2013 (FR Doc. 2013-00032), regarding organizational changes that update the functional statements for the Office of Management. The administrative code for the Division of Information Technology (IT) Security and Records Management was incorrectly written as RBR at four occasions, on pages 956 and 957.

Correction

In the Federal Register of January 7, 2013, in FR Doc. 2013-00032, on pages 956 and 957, at four occasions, correct the administrative code for the Division of Information Technology (IT) Security and Records Management to read RB5R.

Dated: February 28, 2013.
Bahar Niakan,
Director, Division of Policy and Information Coordination.

[FR Doc. 2013-05304 Filed 3-6-13; 8:45 am]

BILLING CODE 4165-15-P